ENVIRONMENTAL PROTECTION AGENCY

[FRL 8718-01-R5]

Public Water System Supervision Program Approval for the State of Wisconsin

AGENCY: Environmental Protection Agency (EPA).

ACTION: Notice of tentative approval.

SUMMARY: Notice is hereby given that the Environmental Protection Agency (EPA) has tentatively approved the State of Wisconsin's revisions to the State's Public Water System Supervision (PWSS) Program under the federal Safe Drinking Water Act (SDWA) for adoption of the federal Ground Water Rule, as well as revisions to the federal Surface Water Treatment Rule under the Long Term 2 Enhanced Surface Water Treatment Rule. The EPA has determined that the State's PWSS program regulations and the revisions thereto are no less stringent than the corresponding federal regulations for the Ground Water Rule and the Long Term 2 Enhanced Surface Water Treatment Rule. Therefore, the EPA intends to approve this revision to the State of Wisconsin's Public Water System Supervision Program, thereby giving the Wisconsin Department of Natural Resources primary enforcement responsibility for the Ground Water Rule and the Long Term 2 Enhanced Surface Water Treatment Rule. This approval action does not extend to public water systems in Indian Country. By approving this revision, the EPA does not intend to affect the rights of federally recognized Indian Tribes in Wisconsin, nor does it intend to limit existing rights of the State of Wisconsin.

DATES: Any interested party may request a public hearing on this determination. A request for a public hearing must be submitted by August 18, 2021. The EPA Region 5 Administrator may deny frivolous or insubstantial requests for a hearing. If a substantial request for a public hearing is made by August 18, 2021, EPA Region 5 will hold a public hearing, and a notice of such hearing will be published in the Federal Register and a newspaper of general circulation. Any request for a public hearing shall include the following information: The name, address, and telephone number of the individual, organization, or other entity requesting a hearing; a brief statement of the requesting person's interest in the Regional Administrator's determination; a brief statement of the information that the requesting person intends to submit at such hearing; and the signature of the individual making the request, or, if the request is made on behalf of an organization or other entity, the signature of a responsible official of the organization or other entity.

If EPA Region 5 does not receive a timely and appropriate request for a hearing and the Regional Administrator does not elect to hold a hearing upon her own motion, this determination shall become final and effective on August 18, 2021 and no further public notice will be issued.

ADDRESSES: To receive copies of documents related to this determination, please contact Victoria Heath at Heath.Victoria@epa.gov or 312-886-0703. Documents relating to this determination are available for inspection at the following locations: Wisconsin Department of Natural Resources, Public Water Supply Section, 101 S Webster St., Madison, WI 53707-7921; and the U.S. Environmental Protection Agency Region 5, Ground Water and Drinking Water Branch (WG-15J), 77 W Jackson Blvd., Chicago, IL 60604.

FOR FURTHER INFORMATION CONTACT: Victoria Heath, EPA Region 5, Ground Water and Drinking Water Branch, at the address given above, by telephone at 312-886-0703, or at Heath.Victoria@epa.gov.

Authority:

Section 1413 of the Safe Drinking Water Act, 42 U.S.C. 300g-2, and the federal regulations implementing Section 1413 of the Act set forth at 40 CFR part 142.

Dated: July 13, 2021.
Cheryl Newton,
Acting Regional Administrator, Region 5.

[FR Doc. 2021-15184 Filed 7-16-21; 8:45 am]

BILLING CODE 6560-50-P